DEPARTMENT OF TRANSPORTATION

Surface Transportation Board

[STB Finance Docket No. 35090]

JP Rail, Inc.—Lease and Operation Exemption—NAT Industries, Inc.

JP Rail, Inc. (JP Rail), a Class III rail carrier, has filed a verified notice of exemption under 49 CFR 1150.41 to lease from NAT Industries, Inc. (NAT) and to operate approximately 1 mile of track in Carroll Township, PA, known as the Donora Line (the Line), formerly operated by NAT as private industrial track. JP Rail states that it will hold itself out to provide common carrier rail freight service over the Line, and that it plans to serve customers originating traffic at JP Rail's Pleasantville, NJ facility and also to market its service to “local” customers. According to JP Rail, the traffic would comprise construction and demolition materials (C&D), which would be transported from Pleasantville by Norfolk Southern Railway Company to a connection with the Line at milepost ML40 in Carroll Township. JP Rail would then transport the C&D over the Line for subsequent transloading into trucks for movement to “Westmoreland Waste's landfill,” approximately 3 miles from Carroll Township. JP Rail states that this operation is intended to be temporary until a permanent rail unloading facility can be constructed on Westmoreland Waste's site and its landfill permit amended to allow for rail traffic. Finally, JP Rail asserts that the proposed transaction is exempt from environmental review under 49 CFR 1105.6(c)(2)(i) and from historic review under 49 CFR 1105.8(b)(1).

JP Rail certifies that its projected revenues as a result of the transaction will not result in the creation of a Class II or Class I rail carrier and will not exceed $5 million.

Because of outstanding questions regarding the proposal, the Board, through the Director of the Office of Proceedings, in a decision served October 26, 2007, directed JP Rail to file supplemental information describing in more detail its anticipated operations and supporting its claim that environmental review is not warranted. The Board also directed JP Rail to serve a copy of its verified notice and the October 26 decision on appropriate federal, state, and local entities and stated that the effective date of the exemption would be delayed until December 6, 2007, to allow time for those parties to participate, if they wish. Therefore, the earliest this transaction may be consummated is December 6, 2007, the effective date of the exemption (50 days after the exemption was filed).

If the verified notice contains false or misleading information, the exemption is void ab initio. Petitions to revoke the exemption under 49 U.S.C. 10502(d) may be filed at any time. The filing of a petition to revoke will not automatically stay the transaction. Petitions for stay must be filed no later than November 29, 2007 (at least 7 days before the exemption becomes effective).

An original and 10 copies of all pleadings, referring to STB Finance Docket No. 35090, must be filed with the Surface Transportation Board, 395 E Street, SW., Washington, DC 20423-0001. Also, a copy of each pleading must be served on John D. Heffner, 1750 K Street, NW., Suite 350, Washington, DC 20006.

Board decisions and notices are available on our Web site at http://www.stb.dot.gov.

Decided: October 26, 2007.
By the Board, David M. Konschnik, Director, Office of Proceedings.
Vernon A. Williams,
Secretary.

[FR Doc. E7-21566 Filed 11-1-07; 8:45 am]

BILLING CODE 4915-01-P